DEPARTMENT OF AGRICULTURE

Forest Service

Norwood Project; Hell Canyon Ranger District, Black Hills National Forest; Custer, SD

AGENCY: Forest Service, USDA.

ACTION: Notice of intent to prepare an Environmental Impact Statement (EIS).

SUMMARY: The Hell Canyon Ranger District of the Black Hills National Forest intends to prepare an Environmental Impact Statement (EIS) for a proposal to implement multiple resource management actions within the Norwood project area as directed by the Black Hills National Forest Land and Resource Management Plan. The Norwood project area is approximately 46,450 acres in size, with 42,250 acres of National Forest lands and 4,200 acres of private land. The South Dakota State snowmobile trail system bisects the area and the Beaver Creek cross-country ski area is within the project area. The project proposes to modify stand conditions in the project area to enhance vegetative diversity, reduce the risk of mountain pine beetle infestation and large scale wildfire, provide for wildlife habitat needs and provide for a sustainable supply of commercial timber, while providing for management and public access needs.

DATES: Comments concerning the scope of the analysis will be most useful if received within 30 days following publication of this notice. The draft environmental impact statement is expected to be available in October 2006 and the final environmental impact statement is expected to be completed by February 2007.

ADDRESSES: Send written comments to Michael D. Lloyd, District Ranger, Back Hills National Forest, Hell Canyon Ranger District, 330 Mount Rushmore Road, Custer, South Dakota 57730. Telephone number: (605) 673-4853. Fax number: (605) 673-5461. Electronic comments must be readable in Word, Rich Text or pdf formats and must contain “Norwood” in the subject line. electronic comments may be e-mailed to: comments-rocky-mountain-black-hills-hell-canyon@fs.fed.us.

FOR FURTHER INFORMATION CONTACT: Kelly Honors, Project Leader, at the address listed above or by phone at (315) 668-3307 or (605) 673-4853.

SUPPLEMENTARY INFORMATION: The actions proposed are in direct response to management direction provided by the Black Hills National Forest Land and Resource Management Plan, as amended (Forest Plan). The Project Area is located along approximately 22 miles of the Wyoming and South Dakota border in Pennington County, South Dakota and Weston and Crook Counties in Wyoming. The southernmost point of the project area is approximately 7 miles directly east of Newcastle, Wyoming.

Purpose and Need for Action

The purpose and need for action in the Norwood project area is to enhance vegetative diversity, reduce the risk of mountain pine beetle infestation and large-scale wildfire, provide for wildlife habitat needs and provide a sustainable supply of commercial timber consistent with Forest Plan direction, while providing for management and public access needs. This project is focused on implementing management actions that move toward achieving desired conditions and objectives embodied in Goals 2 (provide for biologically diverse ecosystems), 3 (provide for sustained commodity uses) and 10 (establish and maintain a mosaic of vegetation conditions to reduce occurrences of large-scale fire, insect, and disease events) of the Forest Plan.

Proposed Action

The proposed action includes the following management actions.

• Commercial thinning on approximately 6,900 acres to increase tree growth and vigor, reduce the potential for mountain pine beetle infestation and reduce the potential for spreading crown fires.

• Creation and maintenance of within stand diversity in pine and mixed spruce sites through use of uneven-aged management prescriptions on approximately 600 acres.

• Restoration and maintenance of hardwood and meadow habitats by removing conifers from approximately 1,800 acres of these habitats.

• Regeneration of mature pine stands on approximately 1,700 acres and releasing approximately 2,000 acres of regenerated pine stands through overstory removal prescription.

• Removal of live pine trees which have mountain pine beetle larva in them, on approximately 270 acres, as a suppression method for mountain pine beetle infestation.

• Fuels treatments designed to reduce fuel loadings, would occur on approximately 5,500 acres with broadcast burning being proposed on approximately 2,300 of these acres.

• Reducing the density of the managed road system from 4.0 miles per square mile to 3.2 miles per square mile. This is to be accomplished by obliterating unneeded roads and by converting needed undetermined roads to system roads.

Responsible Official

Michael D. Lloyd, Hell Canyon District Ranger, Black Hills National Forest, 330 Mount Rushmore Road, Custer, SD, 57730.

Nature of Decision To Be Made

The decision to be made is whether or not to implement the proposed action or an alternative to the proposed action at this time.

Scoping Process

The Hell Canyon Ranger District has mailed letters with comprehensive scoping documents to adjacent landowners, local and tribal government representatives, permittees, organizations and other interested or potentially affected parties. The scoping document with attached maps is also posted on the Black Hills National Forest worldwide Web site, http://www.fs.fed.us/r2/blackhills/. Comments submitted in response to this NOI, will be most useful if received within 30 days from the date of this notice.

Comment Requested

This notice of intent is part of the scoping process which will guide the development of the EIS. Comments received will assist the planning team to identify key issues and opportunities used to refine the proposal or possible alternatives and mitigation measures. Comments on the DEIS will be requested during the 45 day comment period following publication of the Notice of Availability in the Federal Register, expected in October, 2006.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: June 26, 2006.
Brad Exton,
Deputy Forest Supervisor, Black Hills National Forest.

[FR Doc. 06-5971 Filed 7-3-06; 8:45 am]

BILLING CODE 3410-11-M